DEPARTMENT OF COMMERCE

Foreign-Trade Zones Board

[Docket 48-2004]

Foreign-Trade Zone 38—Spartanburg County, SC; Application for Expansion

An application has been submitted to the Foreign-Trade Zones (FTZ) Board (the Board), by the South Carolina State Ports Authority, grantee of FTZ 38, requesting authority to expand its zone in Spartanburg County, South Carolina, within the Greenville/Spartanburg Customs port of entry. The application was submitted pursuant to the provisions of the Foreign-Trade Zones Act, as amended (19 U.S.C. 81a-81u), and the regulations of the Board (15 CFR part 400). It was formally filed on October 29, 2004.

FTZ 38 was approved on May 4, 1978 (Board Order 131, 43 FR 20526, 5/12/78) and expanded on June 24, 1994 (Board Order 697, 59 FR 35096, 7/8/94); on November 9, 1994 (Board Order 715, 59 FR 59992, 11/21/94); on July 23, 1997 (Board Order 910, 62 FR 40797, 7/30/97); on January 8, 1999 (Board Order 1015, 64 FR 3064, 1/8/99); on June 3, 1999 (Board Order 1038, 64 FR 32845, 6/18/99); on March 27, 2000 (Board Order 1084, 65 FR 18283, 4/7/00); and, on August 21, 2003 (Board Order 1283, 68 FR 52385, 9/3/03).

The general-purpose zone project currently consists of five sites (1,408 acres) in Spartanburg County/Laurens County: Site 1 (20 acres)—U.S. Highway 29 Industrial Park, Wellford; Site 2 (681 acres)—International Transport Center (111 acres) and Gateway International Business Center (570 acres), Greer; Site 3 (116 acres)—Highway 290 Commerce Park (111 acres) and a warehouse facility (5 acres) located at 150 Parkway West, Duncan; Site 4 (473 acres)—Wingo Corporate Park, Spartanburg; and, Temporary Site 5 (118 acres)—TNT Logistics/Michelin North America, Inc., facility located at 101 Michelin Drive, Laurens (expires 1/1/06).

The applicant is now requesting authority to expand the general-purpose zone to include an additional site in the area: Proposed Site 6 (20 acres)—Lakeside Business Center located at 961 Berry Shoals Road in Greer. The applicant is also requesting that 118 acres at Site 2 (Gateway International Business Center) be restored to zone status and that Temporary Site 5 (118 acres) be granted zone status on a permanent basis. (A minor boundary modification was approved on March 5, 2004 (A(27f)-11-2004), removing 118 acres from Site 2 (Gateway) to establish the temporary site.) The sites will be used primarily for warehousing and distribution activities. The owners of the site are the Greenville-Spartanburg Airport Commission (Site 2), Acquiport-Laurens, LLC (Temporary Site 5) and MM BG, LLC and William Diangikes (Proposed Site 6). No specific manufacturing authority is being requested at this time. Such requests would be made on a case-by-case basis.

In accordance with the Board's regulations, a member of the FTZ Staff has been designated examiner to investigate the application and report to the Board.

Public comment on the application is invited from interested parties. Submissions (original and 3 copies) shall be addressed to the Board's Executive Secretary at one of the following addresses:

1. Submissions via Express/Package Delivery Services: Foreign-Trade Zones Board, U.S. Department of Commerce, Franklin Court Building-Suite 4100W, 1099 14th Street, NW., Washington, DC 20005; or,

2. Submissions via the U.S. Postal Service: Foreign-Trade Zones Board, U.S. Department of Commerce, FCB-Suite 4100W, 1401 Constitution Avenue, NW., Washington, DC 20230.

The closing period for their receipt is January 7, 2005. Rebuttal comments in response to material submitted during the foregoing period may be submitted during the subsequent 15-day period (to January 24, 2005).

A copy of the application and accompanying exhibits will be available during this time for public inspection at address Number 1 listed above, and at the U.S. Department of Commerce Export Assistance Center, 555 North Pleasantburg Drive, Building 1, Suite 109, Greenville, SC 29607.

Dated: October 29, 2004.
Dennis Puccinelli,
Executive Secretary.

[FR Doc. 04-24859 Filed 11-5-04; 8:45 am]

BILLING CODE 3510-DS-P